DEPARTMENT OF DEFENSE

Office of the Secretary

[Docket ID DoD-2020-OS-0076]

Privacy Act of 1974; System of Records

AGENCY: Office of the Secretary of Defense (OSD), Department of Defense (DoD).

ACTION: Notice of a modified system of records.

SUMMARY: The OSD is modifying a system of records titled “National Language Service Corps (NLSC) Records,” DHRA 07. The NLSC system is a cost-effective solution to the tactical and strategic management of foreign language support needs within the U.S. military and civilian enterprise for operations, plans, and workforce requirements. It provides a surge capability from individuals who are generally unavailable to the Government by tapping into our nation's population of skilled citizens who speak hundreds of languages critical to our nation's needs.

Initially established as a pilot program maintaining a pool of linguists proficient in ten languages, NLSC has since expanded its capabilities to support over 414 languages and dialects and provide over 4,000 man-hours of support to federal agencies annually. To meet the increasing need for professionals with language skills, in 2018, the NLSC expanded the reach of linguist support from DoD organizations to all federal government agencies and is modifying the system to accommodate this growth.

DATES: This system of records modification is effective upon publication; however comments on the routine uses will be accepted on or before October 23, 2020. The routine uses are effective at the close of the comment period.

ADDRESSES: You may submit comments, identified by docket number and title, by any of the following methods:

* Federal Rulemaking Portal: https://www.regulations.gov.

Follow the instructions for submitting comments.

* Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Lyn Kirby, Defense Privacy, Civil Liberties, and Transparency Division, Directorate for Oversight and Compliance, Department of Defense, 4800 Mark Center Drive, Mailbox #24, Suite 08D09, Alexandria, VA 22350-1700; OSD.DPCLTD@mail.mil; (703) 571-0070.

SUPPLEMENTARY INFORMATION: The NLSC is a federal program sponsored by the DoD through the Defense Language and National Security Education Office (DLNSEO). Designed to support federal agencies in times of national need, the NLSC provides and maintains a readily available civilian corps of 8,906 bi-lingual volunteers. The NLSC provides members with the opportunity to join an active community of culturally diverse individuals, utilize language development tools, and use their language skills on missions and mission deployments.

This modification will expand the categories of records in the system to include Social Security Numbers and other fields required to facilitate safe foreign travel. In addition, modifications were made to all other sections of the SORN, with the exception of, “exemptions claimed,” to align with the latest SORN templates and guidance. The intended purpose of this modification is to accommodate NLSC growth, modify an outdated tool to support NLSC missions more effectively, and meet the requirements of Office of Management and Budget (OMB) Circular A-108.

The DoD notices for systems of records subject to the Privacy Act of 1974, as amended, have been published in the Federal Register and are available from the address in FOR FURTHER INFORMATION CONTACT or at the Defense Privacy, Civil Liberties, and Transparency Division website at https://dpcld.defense.gov.

In accordance with 5 U.S.C. 552a(r) and OMB Circular No. A-108, the DoD has provided a report of this system of records to the OMB and to Congress.

Dated: September 16, 2020.
Aaron T. Siegel,
Alternate OSD Federal Register Liaison Officer, Department of Defense.

SYSTEM NAME AND NUMBER:

National Language Service Corps (NLSC) Records, DHRA 07.

SECURITY CLASSIFICATION:

Unclassified.

SYSTEM LOCATION:

Amazon Web Services (AWS), GovCloud West, 12900 Worldgate Drive, Suite 800, Herndon, VA 20170-6040.

SYSTEM MANAGER(S):

Associate Director, National Language Service Corps, 4800 Mark Center Drive, Suite 08G08, Alexandria, VA 22350-4000.

AUTHORITY FOR MAINTENANCE OF THE SYSTEM:

10 U.S.C. 131, Office of the Secretary of Defense; 50 U.S.C. 1913, National Language Service Corps; DoD Directive 5124.02, Under Secretary of Defense for Personnel and Readiness (USD(P&R)); and E.O. 9397 (SSN), as amended.

PURPOSE(S) OF THE SYSTEM:

To allow U.S. citizens with language skills to self-identify their skills for the purpose of temporary employment on an intermittent work schedule or service opportunities in support of the DoD or another department or agency of the United States. The information will be used to determine applicants' eligibility for NLSC membership, to identify and contact NLSC members, and to facilitate travel to foreign work assignments.

CATEGORIES OF INDIVIDUALS COVERED BY THE SYSTEM:

Applicants to or members of the NLSC.

CATEGORIES OF RECORDS IN THE SYSTEM:

Full name, other names used, social security number, DoD ID numbers, citizenship, gender/gender identification, race/ethnicity, home address, email address, home and mobile telephone numbers, official duty address, place of birth, birth date, age verification of 18 years, education information, disability information, financial information, security clearance, military discharge records, employment information (e.g., federal employee, political appointee, armed forces), foreign language(s) spoken, foreign language proficiency levels, origin of foreign language(s) spoken, English proficiency levels, NLSC-assigned control number, passport information, marital status, emergency contact(s), beneficiary information, photo, blood type, height, hair color, eye color, identifying scars, marks, or tattoos, vaccination information, known medical conditions and prescriptions, anticipated separation date, and actual separation date from service.

RECORD SOURCE CATEGORIES:

The individual.

ROUTINE USES OF RECORDS MAINTAINED IN THE SYSTEM, INCLUDING CATEGORIES OF USERS AND PURPOSES OF SUCH USES:

In addition to those disclosures generally permitted in accordance with 5 U.S.C. 552a(b), the records contained herein may specifically be disclosed outside the DoD as a routine use pursuant to 5 U.S.C. 552a(b)(3) as follows:

a. To contractors responsible for performing or working on contracts for the DoD when necessary to accomplish an agency function related to this system of records. Individuals provided information under this routine use are subject to the same Privacy Act requirements and limitations on disclosure that apply to DoD officers and employees.

b. To another department or agency of the United States in need of temporary short-term foreign language services, where government employees are required or desired.

c. To the appropriate Federal, State, local, territorial, tribal, foreign, or international law enforcement authority or other appropriate entity where a record, either alone or in conjunction with other information, indicates a violation or potential violation of law, whether criminal, civil, or regulatory in nature.

d. To any component of the Department of Justice for the purpose of representing the DoD, or its components, officers, employees, or members in pending or potential litigation to which the record is pertinent.

e. In an appropriate proceeding before a court, grand jury, or administrative or adjudicative body or official, when the DoD or other Agency representing the DoD determines that the records are relevant and necessary to the proceeding; or in an appropriate proceeding before an administrative or adjudicative body when the adjudicator determines the records to be relevant to the proceeding.

f. To the National Archives and Records Administration for the purpose of records management inspections conducted under the authority of 44 U.S.C. 2904 and 2906.

g. To a Member of Congress or staff acting upon the Member's behalf when the Member or staff requests the information on behalf of, and at the request of, the individual who is the subject of the record.

h. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

i. To another Federal agency or Federal entity, when the DoD determines information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Records are maintained in electronic storage media, in accordance with the safeguards mentioned below.

POLICIES AND PRACTICES FOR RETRIEVAL OF RECORDS:

The records are retrieved by NLSC-assigned control number, the individual's name or home address.

POLICIES AND PRACTICES FOR RETENTION AND DISPOSAL OF RECORDS:

NLSC Charter Member Files. Destroy/Delete 4 years after termination of membership. Application of Non-enrollees. Destroy/Delete when 4 years old.

ADMINISTRATIVE, TECHNICAL, AND PHYSICAL SAFEGUARDS:

Electronic records are encrypted and kept on a secured network behind firewalls where files are regularly backed-up and maintained with regular intervals. Access to electronic records is limited to authorized personnel who have a DoD Common Access Card (CAC) and successfully completed the proper security training. Access to records is further restricted using multi-factor authentication, and PII is encrypted both at rest and when transmitted electronically.

The servers are housed in nondescript facilities which restrict access to individuals with a justified business reason. The facilities are guarded by entry gates, security guards, and supervisors who monitor officers and visitors via security cameras. When approved individuals are on site, they are given a badge that requires multi-factor authentication and limits access to pre-approved areas.

All NLSC personnel are certified for their roles in accordance with DoD Directive 8570.01-M. A cyber awareness-training program is implemented to ensure that upon arrival, and at least annually thereafter, all NLSC personnel receive DoD Cyber Awareness training. Additionally, cyber security personnel receive training to perform their assigned cyber security responsibilities, to include familiarization with their prescribed roles in all cyber related plans such as incident response, mitigation of malicious code and suspicious communications, configuration management, and disaster recovery.

RECORD ACCESS PROCEDURES:

Individuals seeking access to records about themselves contained in this System of Records should address written inquiries to the Office of the Secretary of Defense (OSD)/Joint Staff Freedom of Information Act Requester Service Center, Office of Freedom of Information, 1155 Defense Pentagon, Washington, DC 20301-1155. Signed, written requests should contain the individual's full name, current home address, and the name and number of this system of records notice (SORN). In addition, the requester must provide either a notarized statement or a declaration made in accordance with 28 U.S.C. 1746, using the following format:

If executed outside the United States: “I declare (or certify, verify, or state) under penalty of perjury under the laws of the United States of America that the foregoing is true and correct.

Executed on (date). (Signature).”

If executed within the United States, its territories, possessions, or commonwealths: “I declare (or certify, verify, or state) under penalty of perjury that the foregoing is true and correct.

Executed on (date). (Signature).”

CONTESTING RECORD PROCEDURES:

The DoD rules for accessing records, for contesting contents and appealing initial agency determinations are contained in 32 CFR part 310, or may be obtained from the system manager.

NOTIFICATION PROCEDURES:

Individuals seeking to determine whether information about themselves is contained in this system should address written inquiries to: Associate Director, National Language Service Corps, 4800 Mark Center Drive, Suite 08G08, Alexandria, VA 22350-4000. Signed, written requests should contain the individual's full name, current home address, and the name and number of this SORN. In addition, the requester must provide either a notarized statement or a declaration made in accordance with 28 U.S.C. 1746, using the following format:

If executed outside the United States: “I declare (or certify, verify, or state) under penalty of perjury under the laws of the United States of America that the foregoing is true and correct.

Executed on (date). (Signature).”

If executed within the United States, its territories, possessions, or commonwealths: “I declare (or certify, verify, or state) under penalty of perjury that the foregoing is true and correct.

Executed on (date). (Signature).”

EXEMPTIONS PROMULGATED FOR THE SYSTEM:

None.

HISTORY:

80 FR 13353, March 13, 2015.

[FR Doc. 2020-21008 Filed 9-22-20; 8:45 am]

BILLING CODE 5001-06-P